DEPARTMENT OF TRANSPORTATION

National Highway Traffic Safety Administration

[Docket No. NHTSA 03-15651; Notice 3]

Federal Motor Vehicle Safety Standards; Lamps, Reflective Devices, and Associated Equipment

AGENCY: National Highway Traffic Safety Administration (NHTSA), Department of Transportation (DOT).

ACTION: Extension of comment period for a notice of draft interpretations.

SUMMARY: This document extends the comment period on a notice setting forth two draft interpretations concerning how our standard on lamps, reflective devices, and associated equipment applies to replacement equipment. In response to petitions from the Transportation Safety Equipment Institute (TSEI) and the Truck Trailer Manufacturers Association (TTMA), the agency is extending the comment period from October 2, 2003 to October 31, 2003.

DATES: You should submit comments early enough to ensure that Docket Management receives them not later than October 31, 2003.

ADDRESSES: You may submit comments (identified by the docket number set forth above) by any of the following methods:

• Web site: http://dms.dot.gov. Follow the instructions for submitting comments on the DOT electronic docket site. Please note, if you are submitting petitions electronically as a PDF (Adobe) file, we ask that the documents submitted be scanned using Optical Character Recognition (OCR) process, thus allowing the agency to search and copy certain portions of your submissions.¹

¹ Optical character recognition (OCR) is the process of converting an image of text, such as a scanned paper document or electronic fax file, into computer-editable text.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

Instructions: All submissions must include the agency name and docket number. For detailed instructions on submitting comments, see the Submission of Comments heading of the Supplementary Information section of the Notice of Draft Interpretations (68 FR 42454, 42456; July 17, 2003). Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: George Feygin, Office of Chief Counsel, National Highway Traffic Safety Administration, 400 Seventh Street, SW., Washington, DC 20590, Telephone: (202) 366-2992, Fax: (202) 366-3820.

SUPPLEMENTARY INFORMATION: On July 17, 2003, the agency published a notice requesting comments on two draft interpretations in response to questions whether replacement lamps for the rear of a vehicle may have the reflex reflectors in a location that is inboard from that in the original lamps, and whether light source modifications are permissible for aftermarket lamps (68 FR 42454). The draft letters would be interpretations of Federal Motor Vehicle Safety Standard No. 108, Lamps, Reflective Devices, and Associated Equipment.

We initially provided a comment period of 45 days, until September 2, 2003. Subsequently, in response to a petition from the Specialty Equipment Market Association (SEMA), we extended the comment period to October 2, 2003 (68 FR 51635, August 27, 2003).

NHTSA received two petitions requesting an additional extension of the comment period, to October 31, 2003. The petitioners are the Transportation Safety Equipment Institute (TSEI) and the Truck Trailer Manufacturers Association (TTMA).

TSEI stated that it and its members have devoted a substantial amount of time and effort to consideration of comments. However, that organization stated that it cannot complete its recommendations until its Fall 2003 membership meeting, which will be held on October 9 and 10. According to the petitioner, a large portion of time during this meeting has been reserved for discussion and development of TSEI's position on the agency's draft interpretations by its engineering committee. Thereafter, TSEI expects to complete and submit its comments. The petitioner stated that in order to afford it the opportunity to apply the resources available to it during the October 9 and 10 meeting to complete work on its response, it requests an additional extension of the comment period, until October 31, 2003.

TTMA stated that its Engineering Committee is scheduled to meet on October 14 and 15, and that the agency's notice of draft interpretation will be one of the topics discussed. That organization stated that any comment it makes would best be developed at that time and would include the views of the TTMA membership.

After considering the arguments raised by TSEI and TTMA, we have decided that it is in the public interest to extend the comment period from October 2, 2003 to October 31, 2003, pursuant to the petitioners' requests.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 30111; 49 CFR 501.8(d)(5).

Issued on September 24, 2003.
Stephen P. Wood,
Assistant Chief Counsel for Vehicle Safety Standards and Harmonization.

[FR Doc. 03-24580 Filed 9-26-03; 8:45 am]

BILLING CODE 4910-59-P